DEPARTMENT OF TRANSPORTATION

Federal Aviation Administration

14 CFR Part 39

[Docket No. FAA-2005-20501; Directorate Identifier 2004-NM-251-AD]

RIN 2120-AA64

Airworthiness Directives; Empresa Brasileira de Aeronautica S.A. (EMBRAER) Model ERJ 170 Series Airplanes

AGENCY: Federal Aviation Administration (FAA), Department of Transportation (DOT).

ACTION: Proposed rule; withdrawal.

SUMMARY: The FAA withdraws a notice of proposed rulemaking (NPRM) that proposed a new airworthiness directive (AD) for all EMBRAER Model ERJ 170 series airplanes. That action would have required inspecting the engine fire handles of the overhead panel in the cockpit, and replacing the engine fire handles if necessary. Since the NPRM was issued, we have received new data that the identified unsafe condition has been corrected on all airplanes that would have been subject to the NPRM. Accordingly, the proposed AD is withdrawn.

ADDRESSES: You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street, SW., room PL-401, Washington, DC. This docket number is FAA-2005-20501; the directorate identifier for this docket is 2004-NM-251-AD.

FOR FURTHER INFORMATION CONTACT: Tom Groves, Aerospace Engineer, International Branch, ANM-116, FAA, Transport Airplane Directorate, 1601 Lind Avenue, SW., Renton, Washington 98055-4056; telephone (425) 227-1503; fax (425) 227-1149.

SUPPLEMENTARY INFORMATION:

Discussion

We proposed to amend part 39 of the Federal Aviation Regulations (14 CFR part 39) with a notice of proposed rulemaking (NPRM) for a new AD for all EMBRAER Model ERJ 170 series airplanes. That NPRM was published in the Federal Register on March 8, 2005 (70 FR 11172). The NPRM would have required inspecting the engine fire handles of the overhead panel in the cockpit, and replacing the engine fire handles if necessary. The NPRM was prompted by reports of failure of the internal circuit of the engine fire handles of the overhead panel in the cockpit. The proposed actions were intended to prevent failure of the internal circuit of the engine fire handles, which could result in failure of the fuel shut-off valves to close and failure of the fire extinguishing agent to discharge in the event of an engine fire.

Actions Since NPRM Was Issued

Since we issued the NPRM, the airplane manufacturer has provided us with data that indicate that the identified unsafe condition (failure of the internal circuit of the engine fire handles, which could result in failure of the fuel shut-off valves to close and failure of the fire extinguishing agent to discharge in the event of an engine fire) has already been corrected on all airplanes that would have been subject to the NPRM, and that all affected spare parts have been returned to the manufacturer and destroyed.

FAA's Conclusions

Upon further consideration, we have determined that the actions that would have been required by the NPRM have already been done on all affected airplanes, and the identified unsafe condition has been corrected. Accordingly, the NPRM is withdrawn.

Withdrawal of the NPRM does not preclude the FAA from issuing another related action or commit the FAA to any course of action in the future.

Regulatory Impact

Since this action only withdraws an NPRM, it is neither a proposed nor a final rule and therefore is not covered under Executive Order 12866, the Regulatory Flexibility Act, or DOT Regulatory Policies and Procedures (44 FR 11034, February 26, 1979).

List of Subjects in 14 CFR Part 39

Air transportation, Aircraft, Aviation safety, Safety.

The Withdrawal

Accordingly, we withdraw the NPRM, Docket No. FAA-2005-20501; Directorate Identifier 2004-NM-251-AD, which was published in the Federal Register on March 8, 2005 (70 FR 11172).

Issued in Renton, Washington, on May 23, 2005.
Ali Bahrami,
Manager, Transport Airplane Directorate, Aircraft Certification Service.

[FR Doc. 05-10868 Filed 5-31-05; 8:45 am]

BILLING CODE 4910-13-P